DEPARTMENT OF COMMERCE

International Trade Administration

[A-570-082]

Steel Wheels From the People's Republic of China: Postponement of Final Determination of Sales at Less-Than-Fair-Value

AGENCY: Enforcement and Compliance, International Trade Administration, Department of Commerce.

SUMMARY: The Department of Commerce (Commerce) is postponing the deadline for issuing the final determination in the less-than-fair-value (LTFV) investigation of certain steel wheels from the People's Republic of China (China) until February 11, 2019.

DATES: Applicable February 1, 2019.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

Commerce published an Initiation Notice on April 24, 2018 and a Preliminary Determination on October 30, 2018.¹ The period of this investigation is July 1, 2017, through December 31, 2017.

¹ See Certain Steel Wheels from the People's Republic of China: Initiation of Less-Than-Fair-Value Investigation, 83 FR 17798 (April 24, 2018) (Initiation Notice) and Certain Steel Wheels from the People's Republic of China: Preliminary Determination of Sales at Less-Than-Fair-Value, 83 FR 54568 (October 30, 2018) (Preliminary Determination).

Postponement of Final Determination

Section 735(a)(1) of the Tariff Act of 1930, as amended (the Act) and 19 CFR 351.210(b)(1) provide that Commerce will issue the final determination within 75 days after the date of its preliminary determination. Section 735(a)(2) of the Act and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On August 15, 2018 and October 23, 2018, Xiamen Sunrise Wheel Group Co., Ltd. (Sunrise), a mandatory respondent that accounts for a “significant portion” of subject merchandise in the LTFV investigation, requested that Commerce postpone the final determination by 60 days and to extend the application of the provisional measures from a four-month period to a period of not more than six months.² On October 29, 2018, Accuride Corporation and Maxion Wheels Akron LLC (collectively, the petitioners) urged Commerce to limit Sunrise's requested extension to no more than 45 days.³

² See Sunrise's August 15 and October 23, 2018 letters re: Request to Extend Final Determination.

³ See the petitioners' October 29, 2018 letter re: Extension of Final Determination.

In accordance with section 735(a)(2)(A) of the Act and 19 CFR 351.210(b)(2)(ii), because: (1) The preliminary determination was affirmative; (2) the request was made by exporters who account for a significant proportion of exports of the subject merchandise from the country at issue; and (3) no compelling reasons for denial exist, Commerce is postponing the final determination of the investigation until no later than 102 days after the date of the publication of the relevant preliminary determination, and extending the provisional measures from a four-month period to a period of not more than six months.⁴ Accordingly, Commerce will issue its final determination in the LTFV investigation no later than February 11, 2019.⁵

⁴ The respondents selected for individual examination by Commerce have withdrawn from participation in this investigation, reducing the need for a full extension. See e.g., Postponement of Final Determination of Antidumping and Countervailing Duty Investigations of Hot-Rolled Flat-Rolled Carbon-Quality Steel from Brazil, 64 FR 9474 (February 26, 1999). The provisional measures of CVD investigation started on August 31, 2018.

⁵ The date of the preliminary determination is October 23, 2018 and the date of the publication of the preliminary determination is October 30, 2018. The final determination of the accompanying countervailing duty (CVD) investigation has been previously aligned with this investigation. Thus, the deadline for issuing the final determination of the CVD investigation is also February 11, 2019. See Certain Steel Wheels from the People's Republic of China: Preliminary Affirmative Countervailing Duty Determination and Alignment of Final Determination With Final Antidumping Duty Determination, 83 FR 44573 (August 31, 2018). Postponing the final determinations to 102 days after the date of the publication of the preliminary determination would place the deadline on Saturday, February 9, 2019. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to 19 CFR 351.210(g).

Dated: December 21, 2018.
P. Lee Smith,
Deputy Assistant Secretary for Policy and Negotiations.

[FR Doc. 2019-00752 Filed 1-31-19; 8:45 am]

BILLING CODE 3510-DS-P